DEPARTMENT OF STATE

[Public Notice: 12618]

Determination Pursuant to Section 451 of the Foreign Assistance Act of 1961 Regarding FY 2022 Peacekeeping Operations Funds

Pursuant to section 451 of the Foreign Assistance Act of 1961 (the “Act”) (22 U.S.C. 2261), section 1-100(a)(1) of Executive Order 12163, and Delegation of Authority No. 513, I hereby authorize, notwithstanding any other provision of law, the use of up to $16,000,000 made available to carry out provisions of the Act (other than the provisions of chapter 1 of part I of the Act) to provide assistance authorized by part I of the Act in support of countries providing personnel for the Multinational Security Support (MSS) mission in Haiti.

This Determination and the accompanying Memorandum of Justification shall be promptly reported to the Congress. This Determination shall be published in the Federal Register.

Dated: December 16, 2024.
Richard R. Verma,
Deputy Secretary of State for Management and Resources, Department of State.

[FR Doc. 2025-00267 Filed 1-8-25; 8:45 am]

BILLING CODE 4710-25-P